DEPARTMENT OF TRANSPORTATION

Federal Aviation Administration

14 CFR Part 39

[Docket No. FAA-2017-1176; Product Identifier 2017-NM-123-AD; Amendment 39-19237; AD 2018-07-06]

RIN 2120-AA64

Airworthiness Directives; The Boeing Company Airplanes

AGENCY: Federal Aviation Administration (FAA), DOT.

ACTION: Final rule.

SUMMARY: We are adopting a new airworthiness directive (AD) for certain The Boeing Company Model 747-8 series airplanes. This AD was prompted by a report of restricted movement of the right brake pedals after landing rollout. This AD requires revising the airplane flight manual (AFM) by adding an autobrake system limitation. This AD also requires modifying intercostal webs near a main entry door, which terminates the AFM limitation. We are issuing this AD to address the unsafe condition on these products.

DATES: This AD is effective May 14, 2018.

The Director of the Federal Register approved the incorporation by reference of a certain publication listed in this AD as of May 14, 2018.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2017-1176.

Examining the AD Docket

You may examine the AD docket on the internet at http://www.regulations.gov by searching for and locating Docket No. FAA-2017-1176; or in person at Docket Operations between 9 a.m. and 5 p.m., Monday through Friday, except Federal holidays. The AD docket contains this final rule, the regulatory evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Kelly McGuckin, Aerospace Engineer, Systems and Equipment Section, Seattle ACO Branch, FAA, 2200 South 216th St., Des Moines, WA 98198; telephone and fax 206-231-3546; email: Kelly.McGuckin@faa.gov.

SUPPLEMENTARY INFORMATION:

Discussion

We issued a notice of proposed rulemaking (NPRM) to amend 14 CFR part 39 by adding an AD that would apply to certain The Boeing Company Model 747-8 series airplanes. The NPRM published in the Federal Register on January 2, 2018 (83 FR 80). The NPRM was prompted by a report of restricted movement of the right brake pedals after landing rollout. The NPRM proposed to require revising the AFM by adding an autobrake system limitation. The NPRM also proposed to require modifying intercostal webs near a main entry door, which would terminate the AFM limitation revision. We are issuing this AD to prevent restricted motion of the brake pedals, which can affect stopping performance and directional control of the airplane. This restricted motion can lead to high speed runway excursion or lateral runway excursion.

Comments

We gave the public the opportunity to participate in developing this final rule. We have considered the comment received. Boeing stated its support for the NPRM.

Conclusion

We reviewed the relevant data, considered the comment received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

We reviewed Boeing Alert Requirements Bulletin 747-32A2525 RB, dated September 6, 2017. This service information describes procedures for modifying intercostal webs near main entry door 3 by drilling two drain holes in the station-18 intercostal web at door stop 8 and applying sealant at the fore-aft drain path of the upper main sill web at station 16 near door 3R and door 3L. This service information is reasonably available because the interested parties have access to it through their normal course of business or by the means identified in the ADDRESSES section.

Costs of Compliance

We estimate that this AD affects 2 airplanes of U.S. registry. We estimate the following costs to comply with this AD:

Estimated Costs
Action | Labor cost | Parts cost | Cost per product | Cost on U.S. operators
AFM revision | 1 work-hour × $85 per hour = $85 | $0 | $85 | $170
Modification | 10 work-hours × $85 per hour = $850 | (¹) | 850 | 1,700
¹ We have received no definitive data that enables us to provide parts cost estimates for the modification specified in this AD.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-07-06 The Boeing Company: Amendment 39-19237; Docket No. FAA-2017-1176; Product Identifier 2017-NM-123-AD.

(a) Effective Date

This AD is effective May 14, 2018.

(b) Affected ADs

None.

(c) Applicability

This AD applies to The Boeing Company Model 747-8 series airplanes, certificated in any category, as identified in Boeing Alert Requirements Bulletin 747-32A2525 RB, dated September 6, 2017, except for airplanes having line numbers 1443, 1451, 1453, 1456, 1470, 1472, 1475, 1477, 1480, 1492, 1494, 1497, 1498, 1500, 1503, 1511, 1512, 1513, and 1514.

(d) Subject

Air Transport Association (ATA) of America Code 32, Landing gear.

(e) Unsafe Condition

This AD was prompted by a report of restricted movement of the brake pedals after landing rollout. We are issuing this AD to prevent restricted motion of the brake pedals, which can affect stopping performance and directional control of the airplane. This restricted motion can lead to high speed runway excursion or lateral runway excursion.

(f) Compliance

Comply with this AD within the compliance times specified, unless already done.

(g) Required Actions

Within 120 days after the effective date of this AD: Revise the airplane flight manual (AFM) by incorporating the limitation specified in figure 1 to paragraph (g) of this AD.

(h) Terminating Action for AFM Limitation

Within 60 months after the effective date of this AD, do all applicable actions identified in, and in accordance with, the Accomplishment Instructions of Boeing Alert Requirements Bulletin 747-32A2525 RB, dated September 6, 2017, except where the requirements bulletin specifies applying sealant, the following type of sealant must be used: BMS 5-142, TYPE 2; BMS 5-95; PR-1826; or PR-1828. Doing the actions specified in this paragraph terminates the AFM limitation revision required by paragraph (g) of this AD. The AFM limitation required by paragraph (g) of this AD may be removed from the AFM after accomplishing the actions specified in this paragraph.

Note 1 to paragraph (h) of this AD: Guidance for accomplishing the actions required by paragraph (h) of this AD can be found in Boeing Alert Service Bulletin 747-32A2525, dated September 6, 2017, which is referred to in Boeing Alert Requirements Bulletin 747-32A2525 RB, dated September 6, 2017.

(i) Special Flight Permit

Special flight permits, as described in Section 21.197 and Section 21.199 of the Federal Aviation Regulations (14 CFR 21.197 and 21.199), are not allowed, except as provided by paragraph (j) of this AD.

(j) Ferry Flight Limitations

Operators who are prohibited from further flight due to the autobrake system being inoperative may perform a one-time non-revenue ferry flight to fly the airplane to a maintenance facility to either fix the autobrake system or incorporate the terminating action specified in paragraph (h) of this AD. This ferry flight must be performed without passengers, and with interior modifications to allow heated cabin air to warm the brake control cables and pulleys in the vicinity of door 3L and door 3R. These interior modifications must include, at a minimum, temporarily removing the side panels and insulation immediately aft of door 3L and door 3R.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(l) Related Information

(1) For more information about this AD, contact Kelly McGuckin, Aerospace Engineer, Systems and Equipment Section, Seattle ACO Branch, FAA, 2200 South 216th St., Des Moines, WA 98198; telephone and fax 206-231-3546; email: Kelly.McGuckin@faa.gov.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin 747-32A2525 RB, dated September 6, 2017.

(ii) Reserved.

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on March 22, 2018.
Michael Kaszycki,
Acting Director, System Oversight Division, Aircraft Certification Service.

[FR Doc. 2018-06710 Filed 4-6-18; 8:45 am]

BILLING CODE 4910-13-P